DEPARTMENT OF HEALTH AND HUMAN SERVICES

National Institutes of Health

Center for Scientific Review; Amended Notice of Meeting

Notice is hereby given of a change in the meeting of the Center for Scientific Review Special Emphasis Panel, June 24, 2002, 8:30 AM to June 25, 2002, 2:00 PM, River Inn, 924 25th Street, NW., Washington, DC, 20037 which was published in the Federal Register on June 6, 2002, 67 FR 39031-39033.

The meeting has been changed to July 8-9, 2002. The time and location remain the same. The meeting is closed to the public.

Dated: June 11, 2002.
LaVerne Y. Stringfield,
Director, Office of Federal Advisory Committee Policy.

[FR Doc. 02-15259 Filed 6-17-02; 8:45 am]

BILLING CODE 4140-01-M